DEPARTMENT OF DEFENSE

GENERAL SERVICES ADMINISTRATION

NATIONAL AERONAUTICS AND SPACE ADMINISTRATION

48 CFR Parts 12, 22, 31, 32, and 52

[FAC 2005-15 Addendum; Docket FAR-2007-0003; Sequence 1]

Federal Acquisition Regulation; Technical Amendments

AGENCIES: Department of Defense (DoD), General Services Administration (GSA), and National Aeronautics and Space Administration (NASA).

ACTION: Final rule.

SUMMARY: This document makes technical amendments to the Federal Acquisition Regulation (FAR) to update references inadvertently omitted from the original issuance of Federal Acquisition Circular 2005-15 published in the Federal Register at 71 FR 74656 on December 12 2006.

DATES: Effective Date: February 12, 2007.

FOR FURTHER INFORMATION CONTACT: The FAR Secretariat, Room 4035, GS Building, Washington, DC, 20405, (202) 501-4755, for information pertaining to status or publication schedules. Please cite FAC 2005-15 Addendum, Technical Amendments.

List of Subjects in 48 CFR Parts 12, 22, 31, 32, and 52

Government procurement.

Dated: February 7, 2007.
Ralph De Stefano,
Director, Contract Policy Division.

Federal Acquisition Circular

Number 2005-15 Addendum

Federal Acquisition Circular (FAC) 2005-15 Addendum is issued under the authority of the Secretary of Defense, the Administrator of General Services, and the Administrator for the National Aeronautics and Space Administration. This Addendum updates references inadvertently omitted from the original issuance of this FAC 2005-15.

Unless otherwise specified, all Federal Acquisition Regulation (FAR) and other directive material contained in FAC 2005-15 Addendum is effective February 12, 2007.

Dated: February 6, 2007.
Robert R. Jarrett, LTC, USA,
Acting Director, Defense Procurement and Acquisition Policy.

Dated: February 7, 2007.
Roger D. Waldron,
Acting Senior Procurement Executive, General Services Administration.

Dated: February 6, 2007.
Deborah C. O’Neill,
Acting Assistant Administrator for Procurement, National Aeronautics and Space Administration.

Therefore, DoD, GSA, and NASA amend 48 CFR parts 12, 22, 31, 32, and 52 as set forth below:

1. The authority citation for 48 CFR parts 12, 22, 31, 32, and 52 continues to read as follows:

Authority: 40 U.S.C. 121(c); 10 U.S.C. chapter 137; and 42 U.S.C. 2473(c).

PART 12—ACQUISITION OF COMMERCIAL ITEMS

12.207 [Amended]

2. Amend section 12.207 by removing from the end of paragraph (b)(2)(ii) the word “and”; and by removing the period from the end of paragraph (b)(2)(iii) and adding “; and” in its place.

PART 22—APPLICATION OF LABOR LAWS TO GOVERNMENT ACQUISITIONS

22.103-4 [Amended]

3. Amend section 22.103-4 by removing from paragraph (c) “paragraph (a)(3)” and adding “paragraph (a)(8)” in its place.

PART 31—CONTRACT COST PRINCIPLES AND PROCEDURES

31.103 [Amended]

4. Amend section 31.103 by removing from paragraph (b)(1)(ii) “16.601(b)(3)” and adding “16.601(c)(3)” in its place.

PART 32—CONTRACT FINANCING

32.111 [Amended]

5. Amend section 32.111 by removing from paragraph (a)(7)(ii) “paragraph (a)(2)” and “paragraph (f)” and adding “paragraph (a)(7)” and “paragraph (g)” in its place, respectively.

PART 52—SOLICITATION PROVISIONS AND CONTRACT CLAUSES

52.216-31 [Amended]

6. Amend section 52.216-31 by removing from the introductory text “16.601(e)(1)” and adding “16.601(e)(3)” in its place.

52.232-7 [Amended]

7. Amend section 52.232-7 by—

a. Removing from paragraph (a)(7) “paragraph (f)” and adding “paragraph (g)” in its place;

b. Removing from paragraph (f) “paragraphs (f) and” and adding “paragraph” in its place; and

c. Removing from the introductory paragraph of Alternate I “paragraph (i)” and adding “paragraph (j)” in its place; and by redesignating paragraph “(i)” as paragraph “j”.

[FR Doc. 07-623 Filed 2-12-07; 8:45 am]

BILLING CODE 6820-EP-S